DEPARTMENT OF COMMERCE

International Trade Administration

[A-580-809]

Circular Welded Non-Alloy Steel Pipe From the Republic of Korea: Preliminary Results of Antidumping Duty Administrative Review and Preliminary Determination of No Shipments; 2021-2022

AGENCY: Enforcement and Compliance, International Trade Administration, Department of Commerce.

SUMMARY: The U.S. Department of Commerce (Commerce) preliminarily finds that circular welded non-alloy steel pipe (CWP) from the Republic of Korea (Korea) was sold at less than normal value during the period of review (POR), November 1, 2021, through October 31, 2022. We invite interested parties to comment on these preliminary results.

DATES: Applicable December 6, 2023.

FOR FURTHER INFORMATION CONTACT: Jacob Keller or Dusten Hom, AD/CVD Operations, Office I, Enforcement and Compliance, International Trade Administration, U.S. Department of Commerce, 1401 Constitution Avenue NW, Washington, DC 20230; telephone: (202) 482-4849 or (202) 482-5075, respectively.

SUPPLEMENTARY INFORMATION:

Background

On November 2, 1992, Commerce published the Order on CWP from Korea in the Federal Register.¹ On November 1, 2022, Commerce published in the Federal Register a notice of opportunity to request an administrative review of the Order.² On January 3, 2023, based on timely requests for an administrative review, Commerce initiated an antidumping duty administrative review of 23 companies.³

¹ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (Order).

² See Antidumping or Countervailing Duty Order, Finding, or Suspended Investigation; Opportunity to Request Administrative Review and Join Annual Inquiry Service List, 87 FR 65750 (November 1, 2022).

³ See Initiation of Antidumping and Countervailing Duty Administrative Reviews, 88 FR 50 (January 3, 2023).

Scope of the Order

The merchandise subject to the Order is circular welded non-alloy steel pipe and tube, of circular cross-section, not more than 406.4 millimeters (16 inches) in outside diameter, regardless of wall thickness, surface finish (black, galvanized, or painted), or end finish (plain end, beveled end, threaded, or threaded and coupled). A full description of the scope of the Order is contained in the Preliminary Decision Memorandum.⁴

⁴ See Memorandum, “Decision Memorandum for the Preliminary Results of Antidumping Duty Administrative Review and Preliminary Determination of No Shipments: Circular Welded Non-Alloy Steel Pipe from the Republic of Korea; 2021-2022,” dated concurrently with, and hereby adopted by, this notice (Preliminary Decision Memorandum).

Methodology

Commerce is conducting this review in accordance with section 751(a) of the Tariff Act of 1930, as amended (the Act). Export price and constructed export price are calculated in accordance with section 772 of the Act. Normal value is calculated in accordance with section 773 of the Act.

For a full description of the methodology underlying these preliminary results, see the Preliminary Decision Memorandum. A list of the topics discussed in the Preliminary Decision Memorandum is attached as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Preliminary Determination of No Shipments

One company under review, HiSteel Co., Ltd. (HiSteel), timely filed a no-shipment letter, certifying that it made no sales or exports of subject merchandise to the United States during the POR.⁵ We received no information from U.S. Customs and Border Protection (CBP) that contradicts HiSteel's no-shipments claim.⁶ Therefore, we preliminarily determine that HiSteel had no shipments during the POR. Consistent with Commerce's practice, we find that it is not appropriate to rescind the review with respect to HiSteel, but rather to complete the review and issue appropriate instructions to CBP based on the final results of this review.⁷

⁵ See HiSteel's Letter, “No Shipments Letter,” dated January 11, 2023.

⁶ See Memorandum, “No Shipment Inquiry for HiSteel Co., Ltd.,” dated November 15, 2023.

⁷ See Antidumping and Countervailing Duty Proceedings: Assessment of Antidumping Duties, 68 FR 23954 (May 6, 2003).

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available. In this review, we preliminarily calculated dumping margins for the two mandatory respondents, Hyundai Steel Company (Hyundai Steel) and Husteel Co., Ltd. (Husteel), of 0.99 and 0.65 percent, respectively, and we have assigned to the non-selected companies a rate of 0.82 percent, which is the weighted-average dumping margins of Husteel and Hyundai Steel weighted by their publicly ranged U.S. sales values.⁸

⁸ With two respondents under examination, Commerce normally calculates (A) a weighted-average of the dumping margins calculated for the examined respondents; (B) a simple average of the dumping margins calculated for the examined respondents; and (C) a weighted-average of the dumping margins calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

Preliminary Results of Review

We preliminarily determine that the following weighted-average dumping margins exist for the period November 1, 2021, through October 31, 2022:

Producer/exporter | Weighted- average dumping margin (percent)
Hyundai Steel Company | 0.99
Husteel Co., Ltd | 0.65
Companies Not Individually Examined ⁹ | 0.82

Disclosure and Public Comment

⁹ See Appendix II for a full list of companies not individually examined in this review. However, as we find HiSteel preliminarily to have no shipments, we will not assign HiSteel the non-selected company rate.

We intend to disclose the calculations performed to parties within five days after public announcement of the preliminary results.¹⁰ Pursuant to 19 CFR 351.309(c), interested parties may submit case briefs no later than 30 days after the date of publication of this notice. Rebuttal briefs, limited to issues raised in the case briefs, may be filed not later than five days after the date for filing case briefs.¹¹ Interested parties who submit case briefs or rebuttal briefs in this proceeding must submit: (1) a table of contents listing each issue; and (2) a table of authorities.¹² As provided under 19 CFR 351.309(c)(2) and (d)(2), in prior proceedings, we have encouraged interested parties to provide an executive summary of their brief that should be limited to five pages total, including footnotes. In this review, we instead request that interested parties provide, at the beginning of their briefs, a public executive summary for each issue raised in their briefs.¹³ Further, we request that interested parties limit their executive summary of each issue to no more than 450 words, no including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁴

¹⁰ See 19 CFR 351.224(b).

¹¹ See 19 CFR 351.309(d); see also Administrative Protective Order, Service, and Other Procedures in Antidumping and Countervailing Duty Proceedings, 88 FR 67069, 67077 (September 29, 2023).

¹² See 19 CFR 351.309(c)(2) and (d)(2).

¹³ We use the term “issue” here to describe an argument that Commerce would normally address in a comment of the Issues and Decision Memorandum.

¹⁴ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice.

Assessment Rates

Upon completion of the final results, Commerce shall determine, and CBP shall assess, antidumping duties on all appropriate entries covered by this review. If either of the respondents' weighted-average dumping margins is not zero or de minimis (i.e., less than 0.50 percent) in the final results of this review, we intend to calculate an importer-specific assessment rate based on the ratio of the total amount of dumping calculated for each importer's examined sales and the total entered value of those same sales in accordance with 19 CFR 351.212(b)(1).¹⁵ If either of the respondents' weighted-average dumping margin or an importer-specific assessment rate is zero or de minimis in the final results of review, we intend to instruct CBP to liquidate entries without regard to antidumping duties.¹⁶ The final results of this administrative review shall be the basis for the assessment of antidumping duties on entries of merchandise covered by the final results of this review and for future deposits of estimated duties, where applicable.¹⁷

¹⁵ See Antidumping Proceedings: Calculation of the Weighted-Average Dumping Margin and Assessment Rate in Certain Antidumping Proceedings: Final Modification, 77 FR 8101, 8103 (February 14, 2012).

¹⁶ Id., 77 FR at 8102-03; see also 19 CFR 351.106(c)(2).

¹⁷ See section 751(a)(2)(C) of the Act.

For entries of subject merchandise during the POR produced by either of the respondents for which they did not know that the merchandise was destined to the United States, we will instruct CBP to liquidate unreviewed entries at the all-others rate if there is no rate for the intermediate company(ies) involved in the transaction.¹⁸ For the companies identified in Appendix II that were not selected for individual examination, we will instruct CBP to liquidate entries at the rate established after the completion of the final results of review.

¹⁸ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of CWP from Korea entered, or withdrawn from warehouse, for consumption on or after the date of publication as provided by section 751(a)(2)(C) of the Act: (1) the cash deposit rate for the respondents will be equal to the weighted-average dumping margin established in the final results of this administrative review; (2) for merchandise exported by a company not covered in this review but covered in a prior segment of the proceeding, the cash deposit rate will continue to be the company-specific rate published in the completed segment for the most recent period; (3) if the exporter is not a firm covered in this review or the original investigation but the producer is, then the cash deposit rate will be the rate established in the completed segment for the most recent period for the producer of the merchandise; (4) the cash deposit rate for all other producers or exporters will continue to be 4.80 percent, the all-others rate established in the less-than-fair-value investigation.¹⁹ These cash deposit requirements, when imposed, shall remain in effect until further notice.

¹⁹ See Order, 57 FR at 49453.

Final Results of Review

Unless the deadline is otherwise extended, Commerce intends to issue the final results of this administrative review, including the results of its analysis of issues raised by interested parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these preliminary results in accordance with sections 751(a)(1) and 777(i)(1) of the Act, and 19 CFR 351.221(b)(4).

Dated: November 29, 2023.
Abdelali Elouaradia,
Deputy Assistant Secretary for Enforcement and Compliance.

Appendix I—List of Topics Discussed in the Preliminary Decision Memorandum

I. Summary

II. Background

III. Scope of the Order

IV. Rate for Non-Examined Companies

V. Preliminary Determination of No Shipments

VI. Affiliation

VII. Discussion of the Methodology

VIII. Currency Conversion

IX. Recommendation

Appendix II—List of Companies Not Selected for Individual Examination

1. Aju Besteel

2. Bookook Steel

3. Chang Won Bending

4. Dae Ryung

5. Daewoo Shipbuilding & Marine Engineering

6. Daiduck Piping

7. Dong Yang Steel Pipe

8. Dongbu Steel

9. EEW Korea Company

10. Histeel

11. Hyundai RB

12. Kiduck Industries

13. Kum Kang Kind

14. Kumsoo Connecting

15. Miju Steel Mfg.

16. NEXTEEL Co., Ltd.

17. Samkand M & T

18. Seah FS

19. SeAH Steel Corporation

20. Steel Flower

21. YCP Co., Ltd

[FR Doc. 2023-26721 Filed 12-5-23; 8:45 am]

BILLING CODE 3510-DS-P